GENERAL SERVICES ADMINISTRATION

[Notice-MA-2022-02; Docket No. 2022-0002, Sequence No. 2]

Government Bill of Lading (GBL) and Government Transportation Request (GTR) Forms

AGENCY: Office of Government-wide Policy (OGP), U.S. General Services Administration (GSA).

ACTION: Notice of GSA Bulletin Federal Management Regulation (FMR) D-5, Transportation Payment and Audit, Updated Guidance Regarding Government Bill of Lading (GBL) and Government Transportation Request (GTR) Forms.

SUMMARY: GSA is issuing GSA Bulletin FMR D-5 which informs agencies that Government Bill of Lading (GBL) and Government Transportation Request (GTR) forms are available online. Agencies no longer need to contact GSA for paper copies of the forms or to receive assigned serialized numbers for these forms.

DATES: Applicability date: May 2, 2022. This notice remains in effect until publication of FMR Case 2018-102-5.

FOR FURTHER INFORMATION CONTACT: For clarification of content, please contact Mr. Ron Siegel, Program Analyst, Office of Government-wide Policy, Office of Asset and Transportation Management, at 202-702-0840, or by email at GSA-OGP-transportationpolicy@gsa.gov. Please cite Notice of GSA Bulletin FMR D-5 in the subject line.

SUPPLEMENTARY INFORMATION: In the past, GSA printed multi-part GBL and GTR forms for distribution to Federal agencies. GSA has not printed these forms in many years. The FMR instructs agencies to contact GSA for copies of GBL and GTR forms in preprinted or blank formats. Agencies that need copies of these forms can now find them available online in the GSA Forms Library (https://www.gsa.gov/reference/forms). The FMR also instructs agencies that do not use pre-numbered GBL or GTR forms to contact GSA for assigned sets of serialized numbers. However, since agencies are already required to establish administrative procedures such as a unique numbering system tracking numbers, GSA no longer provides serialized numbers to agencies.

Upon publication of FMR Case 2018-1102-5 in the Federal Register, the sections that discuss GBL and GTR forms and their numbers, along with other sections, will be updated.

Krystal J. Brumfield,
Associate Administrator, Office of Government-wide Policy.

[FR Doc. 2022-09365 Filed 4-29-22; 8:45 am]

BILLING CODE 6820-14-P